DEPARTMENT OF HEALTH AND HUMAN SERVICES

Office of Refugee Resettlement

Notice To Announce the Award of an Urgent Single-Source Grant to Survivors of Torture International (SOTI) in San Diego, CA

AGENCY: Office of Refugee Resettlement, ACF, HHS.

ACTION: The Office of Refugee Resettlement announces the award of an urgent single-source grant to Survivors of Torture International (SOTI) to provide comprehensive rehabilitative services to survivors of torture.

CFDA Number: 93.604

Statutory Authority: Awards announced in this notice are authorized by Section 412(c)(1)(A) of the Immigration and Nationality Act (INA)(8 U.S.C. 1522(c)(1)(A), as amended, and the Refugee Assistance Extension Act of 1986, Public Law 99-605, Nov 6, 1986, 100 Stat. 3449.

Amount of Award: $271,000.

Project Period: July 1, 2011 through June 30, 2012.

Summary: Notice is hereby given that an urgent single-source grant is awarded to Survivors of Torture, International (SOTI), San Diego, CA. The grant will support direct services to persons who have experienced trauma or torture prior to their arrival in the United States. The grant will serve San Diego County, which is the area that has received the greatest number of Iraqi refugee arrivals, as well as a high percentage of other refugees and asylum-seekers. The grantee, SOTI, will provide comprehensive rehabilitative services to Iraqi and other survivors of torture, who are in need of specialized services that will enable these survivors to regain their health and independence and rebuild productive lives. In addition to provision of direct services, SOTI will train other area service providers to more effectively serve this population. SOTI will also focus on sustaining collaborations among providers serving this population.

According to the Department of Homeland Security (DHS), in FY 2009, twenty-eight percent of the country's asylum-seekers came to California for resettlement. In 2010, a total of 3,663 refugees were resettled in San Diego. At least 159,550 refugees, asylees, and asylum-seekers in San Diego have come from areas where torture may be practiced. San Diego's numbers include an influx in Iraqi refugees, as one in four Iraqi refugees has resettled in California, with the vast majority resettling in San Diego.

SOTI is the only program in San Diego County that provides medical affidavits for torture survivors to use in claiming asylum. They have also reported an 84 percent increase in client intakes during fiscal years (FYs) 2009 and 2010. As a result, an urgent need exists for specialized services for individuals in San Diego who have suffered torture prior to their arrival in the United States.

SOTI is well positioned to provide medical, psychological, social, and legal services to Iraqis who have suffered torture and are relocated in the San Diego area. SOTI has developed a large network of pro bono service providers and possesses the clinical and programmatic expertise to serve survivors of torture.

For Further Information Contact: Ronald Munia, Director, Division of Community Resettlement, Office of Refugee Resettlement, 901 D Street, SW., Washington, DC 20047. Telephone: 202-401-4559. E-mail: Ronald.Munia@acf.hhs.gov.

Dated: July 29, 2011.
Eskinder Negash,
Director, Office of Refugee Resettlement.

[FR Doc. 2011-20714 Filed 8-15-11; 8:45 am]

BILLING CODE 4120-27-P